DEPARTMENT OF THE INTERIOR

Fish and Wildlife Service

[FWS-R4-ES-2018-N029; FXES11130400000EA-123-FF04EF1000]

Endangered and Threatened Wildlife and Plants; Availability of Proposed Low-Effect Habitat Conservation Plan for the Sand Skink, Orange County, FL

AGENCY: Fish and Wildlife Service, Interior.

ACTION: Notice of availability; request for comments.

SUMMARY: We, the U.S. Fish and Wildlife Service (Service), have received an application for an incidental take permit (ITP) under the Endangered Species Act of 1973, as amended. Orange County Public Schools (applicant) is requesting a 3-year ITP for take of the federally listed sand skink. We request public comment on the permit application, which includes a proposed habitat conservation plan, and on our preliminary determination that the plan qualifies as low effect under the National Environmental Policy Act. To make this determination, we used our environmental action statement and low-effect screening form, which are also available for review.

DATES: To ensure consideration, please send your written comments by May 24, 2018.

ADDRESSES: You may submit written comments and request copies of the application, including the HCP, as well as our environmental action statement or low-effect screening form, by any one of the following methods:

Email: northflorida@fws.gov. Use “Attn: Permit number TE74732C-0” as your subject line.

Fax: Field Supervisor, (904) 731-3191, “Attn: Permit number TE74732C-0.”

U.S. mail: Field Supervisor, Jacksonville Ecological Services Field Office, Attn: Permit number TE74732C-0, U.S. Fish and Wildlife Service, 7915 Baymeadows Way, Suite 200, Jacksonville, FL 32256.

In-person: You may deliver comments during regular business hours at the office address listed above under U.S. mail. You may inspect the application, HCP, environmental action statement, or low-effect screening form by appointment during normal business hours at the same address.

FOR FURTHER INFORMATION CONTACT: Erin M. Gawera, telephone: (904) 731-3121; email: erin_gawera@fws.gov.

SUPPLEMENTARY INFORMATION:

Background

Section 9 of the Endangered Species Act of 1973, as amended (ESA; 16 U.S.C. et seq.) and our implementing regulations in the Code of Federal Regulations (CFR) at 50 CFR part 17 prohibit the “take” of fish and wildlife species listed as endangered or threatened. Take of listed fish or wildlife is defined under the ESA as “to harass, harm, pursue, hunt, shoot, wound, kill, trap, capture, or collect, or to attempt to engage in any such conduct” (16 U.S.C. 1532(19)). However, under limited circumstances, we issue permits to authorize incidental take, i.e., take that is incidental to, and not the purpose of, the carrying out of an otherwise lawful activity.

Regulations governing incidental take permits for endangered and threatened species are at 50 CFR 17.22 and 17.32, respectively. The ESA's take prohibitions do not apply to federally listed plants on private lands unless such take would violate State law. In addition to meeting other criteria, the take authorized by an incidental take permit must not jeopardize the existence of federally listed fish, wildlife, or plants.

Applicant's Proposal

Orange County Public Schools is requesting an incidental take permit (ITP) to take sand skink (Neoseps reynoldsi) through the permanent destruction of approximately 5.3 acres (ac) of occupied foraging and sheltering habitat. The take would be incidental to the construction of a school and associated facilities in Orange County, Florida. The 26.0-ac habitat conservation plan (HCP) project site is located on Orange County Parcel No. 27232500000004, within Section 25, Township 23 South, Range 27 East. The project activities also include clearing, infrastructure building, and landscaping associated with constructing a school and associated facilities. The applicant proposes to mitigate for the take of the species by purchasing 10.6 mitigation credits within a Service-approved sand skink conservation bank.

Our Preliminary Determination

A low-effect HCP is one involving (1) minor or negligible effects on federally listed or candidate species and their habitats, and (2) minor or negligible effects on other environmental values or resources. We have determined that the applicant's proposed HCP, including the proposed mitigation and minimization measures, would have minor or negligible effects on the covered species and the environment so as to be “low effect” and qualify for categorical exclusion under the National Environmental Policy Act (NEPA; 42 U.S.C. 4321 et seq.), as provided by Department of the Interior implementing regulations in part 46 of title 43 of the Code of Federal Regulations (43 CFR 46.205, 46.210, and 46.215).

Next Steps

We will evaluate the HCP and comments we receive to determine whether the ITP application meets the requirements of section 10(a) of the ESA. We will also conduct an intra-Service consultation to evaluate take of the sand skink in accordance with section 7 of the ESA. We will use the results of the consultation, in combination with the above findings, in our analysis of whether or not to issue the ITP. If the requirements are met, we will issue ITP number TE74732C-0 to the applicant.

Public Comments

If you wish to comment on the permit application, HCP, or associated documents, you may submit comments by any one of the methods listed in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA and NEPA regulation 40 CFR 1506.6.

Jay B. Herrington,
Field Supervisor, Jacksonville Field Office, Southeast Region.

[FR Doc. 2018-08494 Filed 4-23-18; 8:45 am]

BILLING CODE 4333-15-P